DEPARTMENT OF HOUSING AND URBAN DEVELOPMENT

[Docket No. FR-5648-N-04]

Final Fair Market Rents for the Housing Choice Voucher Program and Moderate Rehabilitation Single Room Occupancy Program Fiscal Year 2013; Revised

AGENCY: Office of the Assistant Secretary for Policy Development and Research, HUD.

ACTION: Notice of Final Fiscal Year (FY) 2013 Fair Market Rents (FMRs), Update.

SUMMARY: Today's notice updates the FY 2013 FMRs for Cheyenne, WY, and Odessa, TX, based on surveys conducted in September 2012 and for Burlington, VT, Mountrail County, ND, Ward County, ND, and Williams County, ND based on surveys conducted in November 2012. The FY 2013 FMRs for these areas reflect the estimated 40th percentile rent levels trended to April 1, 2013.

DATES: Effective Date: The FMRs published in this notice are effective on April 30, 2013.

FOR FURTHER INFORMATION CONTACT: For technical information on the methodology used to develop FMRs or a listing of all FMRs, please call the HUD USER information line at 800-245-2691 or access the information on the HUD USER Web site: http://www.huduser.org/portal/datasets/fmr.html. FMRs are listed at the 40th or 50th percentile in Schedule B. For informational purposes, 40th percentile recent-mover rents for the areas with 50th percentile FMRs will be provided in the HUD FY 2013 FMR documentation system at http://www.huduser.org/portal/datasets/fmr/fmrs/docsys.html&data=fmr13 and 50th percentile rents for all FMR areas are published at http://www.huduser.org/portal/datasets/50per.html.

Questions related to use of FMRs or voucher payment standards should be directed to the respective local HUD program staff. Questions on how to conduct FMR surveys or concerning further methodological explanations may be addressed to Marie L. Lihn or Peter B. Kahn, Economic and Market Analysis Division, Office of Economic Affairs, Office of Policy Development and Research, telephone 202-708-0590. Persons with hearing or speech impairments may access this number through TTY by calling the toll-free Federal Relay Service at 800-877-8339. (Other than the HUD USER information line and TDD numbers, telephone numbers are not toll-free.)

SUPPLEMENTARY INFORMATION: In response to comments submitted to the FY 2012 and FY 2013 FMRs, surveys were conducted of the following areas: Cheyenne, WY, and Odessa, TX, Burlington-South Burlington, VT and a three-county group in northwest North Dakota, Mountrail County, Ward County, and Williams County. HUD was evaluating a new survey methodology and could not conduct any surveys in time for the publication of the final FY 2013 FMRs. Cheyenne and Odessa were surveyed in September and Burlington and the three-county group in North Dakota were surveyed in November.

The FMRs appearing in the following table supersede the values found in Schedule B that became effective on October 1, 2012, and were printed in the October 5, 2012. Federal Register (available from HUD at: http://www.huduser.org/portal/datasets/fmr/fmr2013f/FY2013F_SCHEDULE_B.pdf).

The FMRs for the six affected areas are revised as follows:

2013 Fair market rent area | FMR by number of bedrooms in unit: 0 BR | FMR by number of bedrooms in unit: 1 BR | FMR by number of bedrooms in unit: 2 BR | FMR by number of bedrooms in unit: 3 BR | FMR by number of bedrooms in unit: 4 BR
Burlington-South Burlington, VT MSA | 902 | 980 | 1280 | 1604 | 1881
Cheyenne, WY MSA | 508 | 578 | 781 | 1071 | 1251
Odessa, TX MSA | 659 | 764 | 983 | 1251 | 1313
Mountrail County, ND | 841 | 878 | 1041 | 1306 | 1817
Ward County, ND | 773 | 825 | 1087 | 1602 | 1667
Williams County, ND | 771 | 841 | 1026 | 1278 | 1371

Dated: April 25, 2013.
Erika C. Poethig,
Deputy Assistant Secretary for Policy Development.

[FR Doc. 2013-10171 Filed 4-29-13; 8:45 am]

BILLING CODE 4210-67-P